ENVIRONMENTAL PROTECTION AGENCY

[EPA-HQ-OW-2015-0665; FRL-9977-38-OW]

RIN 2040-ZA25

Final 2016 Effluent Guidelines Program Plan

AGENCY: Environmental Protection Agency (EPA).

ACTION: Notice of availability.

SUMMARY: This notice announces the availability of the Environmental Protection Agency's (EPA) Final 2016 Effluent Guidelines Program Plan (Final 2016 Plan). Section 304(m) of the Clean Water Act (CWA) requires the EPA to biennially publish a plan for new and revised effluent limitations guidelines, after public review and comment. The Final 2016 Plan identifies any new or existing industrial categories selected for effluent guidelines or pretreatment standards and provides a schedule for their development. The information and analyses from the EPA's 2015 and 2016 Annual Reviews, in addition to input from public comments on the Preliminary 2016 Plan, were used in developing the Final 2016 Plan.

FOR FURTHER INFORMATION CONTACT: Phillip Flanders, Engineering and Analysis Division, Office of Water, 4303T, U.S. EPA, 1200 Pennsylvania Avenue NW, Washington, DC 20460; telephone number: (202) 566-8323; fax number: (202) 566-1053; email address: Flanders.Phillip@epa.gov.

SUPPLEMENTARY INFORMATION:

I. General Information

A. Supporting Documents—A key document that provides additional information for this notice is the Final 2016 Effluent Guidelines Program Plan.

B. How Can I Get Copies of This Document and Other Related Information?

1. Docket. The EPA has established official public dockets for these actions under Docket ID No. EPA-HQ-OW-2015-0665. The official public docket is the collection of materials that are available for public viewing at the Water Docket in the EPA Docket Center, (EPA/DC) EPA West, Room 3334, 1301 Constitution Ave. NW, Washington, DC 20460.

2. Electronic access. You can access this Federal Register document electronically through the United States government online source for Federal regulations at http://www.regulations.gov.

3. Internet access. Copies of the supporting documents are available at http://www.epa.gov/eg/effluent-guidelines-plan.

II. How is this document organized?

The outline of this notice follows.

A. Legal Authority.

B. Summary of the Final 2016 Effluent Guidelines Program Plan.

A. Legal Authority

This notice is published under the authority of the CWA, 33 U.S.C. 1251, et seq., and in particular sections 301(d), 304(b), 304(g), 304(m), 306, 307(b), and 308 of the Act, 33 U.S.C. 1311(d), 1314(b), 1314(g), 1314(m), 1316, 1317(b), and 1318.

B. Summary of the Final 2016 Effluent Guidelines Program Plan

The EPA prepared the Final 2016 Plan pursuant to CWA section 304(m). The Final 2016 Plan provides a summary of the EPA's review of effluent guidelines and pretreatment standards, consistent with CWA sections 301(d), 304(b), 304(g), 304(m), and 307(b). From these reviews and considering public comment, the Final 2016 Plan identifies any new or existing industrial categories selected for effluent guidelines or pretreatment standards rulemakings, and provides a schedule for such rulemakings. In addition, the Final 2016 Plan presents any new or existing categories of industry selected for further review and analysis.

The Final 2016 Plan identifies one new rulemaking (and the associated schedule) for the Steam Electric Power Generating Point Source Category. The EPA has concluded that no additional industries warrant new or revised effluent guidelines at this time. The Final 2016 Plan also announces that the EPA is initiating a new study to look holistically at the management of oil and gas extraction wastewater from onshore facilities. The focus of this study is not to look specifically at any one existing effluent guideline. Rather, the EPA intends to engage with stakeholders to evaluate approaches to manage both conventional and unconventional oil and gas extraction wastewater from onshore facilities including, but not limited to, an assessment of technologies for facilities that treat and discharge oil and gas extraction wastewater. Lastly, the Final 2016 Plan announces that the EPA is initiating a new study of the Electrical and Electronic Components Point Source Category. The focus of this study will be on changes within the industry since the 1983 rulemaking, particularly as these changes pertain to wastewater characteristics and wastewater treatment technologies.

The Final 2016 Plan and the 2015 and 2016 Annual Effluent Guidelines Review Reports can be found at http://www.epa.gov/eg/effluent-guidelines-plan.

Dated: April 24, 2018.
David P. Ross,
Assistant Administrator, Office of Water.

[FR Doc. 2018-09320 Filed 5-1-18; 8:45 am]

BILLING CODE 6560-50-P